DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting Susan S. Rucker, J.D., at the Office of Technology Transfer, National Institutes of Health, 6011 Executive Boulevard, Suite 325, Rockville, Maryland 20852-3804; telephone: 301/496-7056 ext. 245; fax: 301/402-0220; e-mail: ruckers@od.nih.gov. A signed Confidential Disclosure Agreement will be required to receive copies of the patent applications.

Modified Leptin

YP Loh, NX Cawley (both of NICHD)

Serial No. 60/290,722 filed 14 May 2001

This invention described and claimed in this patent application provides for an improved method for producing human leptin in vitro or in in vivo. In particular, the patent application describes compositions and methods which are based on a modified form of human leptin where the regulated secretory pathway (RSP) sorting signal has been modified to provide for the constitutive secretion of leptin via the nonregulated secretory pathway (NRSP) in a mammalian cell. This invention can be applied to a non-invasive method of gene therapy to achieve sustained delivery of this therapeutic protein.

Modified Growth Hormone

YP Loh, NX Cawley (both of NICHD), BJ Baum (NIDCR), and CR Snell

Serial No. 60/290,836 filed 14 May 2001

This invention described and claimed in this patent application provides for an improved method for producing human growth hormone in vitro or in in vivo. In particular, the patent application describes compositions and methods which are based on a modified form of human growth hormone where the regulated secretory pathway (RSP) sorting signal has been modified to provide for the constitutive secretion of human growth hormone via the nonregulated secretory pathway (NRSP) in a mammalian cell. This invention can be applied to a non-invasive method of gene therapy to achieve sustained delivery of this therapeutic protein.

Dated: August 6, 2001.
Jack Spiegel,
Director, Division of Technology, Development and Transfer, Office of Technology Transfer, National Institues of Health.

[FR Doc. 01-20193 Filed 8-10-01; 8:45 am]

BILLING CODE 4140-01-P